ENVIRONMENTAL PROTECTION AGENCY

[OEI-100002; FRL-6722-1]

RIN 2070-AD09

Guidance Documents for: Mercury and Mercury Compounds, Polycyclic Aromatic Compounds, Pesticides and Other Persistent Bioaccumulative Toxic (PBT) Chemicals; Community Right-to-Know Toxic Chemical Release Reporting

AGENCY: Environmental Protection Agency (EPA).

ACTION: Notice of availability; request for comments.

SUMMARY: EPA is announcing the availability of three draft guidance documents for certain persistent bioaccumulative toxic (PBT) chemicals which are subject to reporting under section 313 of the Emergency Planning and Community Right-to-Know Act of 1986 (EPCRA) and section 6607 of the Pollution Prevention Act of 1990 (PPA). In a rule made final on October 29, 1999, EPA lowered the reporting thresholds of certain PBT chemicals which were already on the EPCRA section 313 list. In addition, EPA added new PBT chemicals to this list, and established the lower reporting thresholds for these chemicals. EPA is requesting comments on these draft guidance documents.

On June 15, 2000, EPA published a Federal Register notice, (65 FR 37548)(FRL-6497-9) asking if there was interest in forming a workgroup to assist in the preparation of the final guidance documents. A workgroup has been formed in response to this notice. EPA welcomes additional stakeholders to this workgroup.

DATES: Written comments, identified by the docket control number OEI-100002, must be received by EPA on or before December 28, 2000.

ADDRESSES: Comments may be submitted by mail, electronically, or in person. Please follow the detailed instructions for each method as provided in Unit I. of the SUPPLEMENTARY INFORMATION section of this document.

FURTHER INFORMATION CONTACT: Gail Froiman, (202) 260-0697, e-mail: froiman.gail@epa.gov, for specific information on these documents, or for more information on EPCRA section 313, the Emergency Planning and Community Right-to-Know Hotline, Environmental Protection Agency, Mail Code 5101, 1200 Pennsylvania Ave., NW., Washington, DC 20460, Toll free: 1-800-535-0202, in Virginia and Alaska: (703) 412-9877 or Toll free TDD: 1-800-553-7672.

SUPPLEMENTARY INFORMATION:

I. General Information

A. Does this Notice Apply to Me?

You may be interested in this notice if you manufacture, process, or otherwise use aldrin, chlordane, heptachlor, hexachlorobenzene, isodrin, mercury, mercury compounds, methoxychlor, octachlorostyrene, pendimethalin, pentachlorobenzene, polychlorinated biphenyls, certain polycyclic aromatic compounds, tetrabromobisphenol A, toxaphene, and trifuralin. Potentially interested categories and entities may include, but are not limited to:

Category | Examples of Potentially Interested Entities
Industry | SIC major group codes 10 (except 1011, 1081, and 1094), 12 (except 1241), or 20 through 39; industry codes 4911 (limited to facilities that combust coal and/or oil for the purpose of generating power for distribution in commerce); 4931 (limited to facilities that combust coal and/or oil for the purpose of generating power for distribution in commerce); or 4939 (limited to facilities that combust coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis)
Federal Government | Federal facilities

This table is not intended to be exhaustive, but rather provides a guide for readers regarding entities likely to be interested in this notice. Other types of entities not listed in the table could also be interested. To determine whether your facility may be interested in this notice, you should carefully examine the applicability criteria in part 372, subpart B of Title 40 of the Code of Federal Regulations. If you have questions regarding the applicability of this notice to a particular entity, consult the person listed in the preceding FOR FURTHER INFORMATION CONTACT section.

B. How Can I Get Additional Information or Copies of this Document or Other Support Documents?

1. Electronically. You may obtain electronic copies of this document from the EPA internet Home Page at http:// www.epa.gov/. On the Home Page select “Laws and Regulations” and then look up the entry for this document under the “Federal Register — Environmental Documents.” You can also go directly to the “Federal Register” listings at http:/ /www.epa.gov/homepage/fedrgstr/. The draft guidance documents for the Mercury and Mercury Compounds Category, Polycyclic Aromatic Compounds Category and Pesticides and Other Persistent Bioaccumulative Toxic (PBT) Chemicals are available for downloading at http://www.epa.gov/tri.

2. In person. The Agency has established an official record for this action under docket control number OEI-100002. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. How and to Whom Do I Submit Comments?

You may submit comments through the mail, in person, or electronically. Be sure to identify the appropriate docket control number (i.e., “OEI-100002”) in your correspondence.

1. By mail. Submit written comments to: Document Control Office (7407), Office of Pollution Prevention and Toxics (OPPT), Environmental Protection Agency, 1200 Pennsylvania Ave., NW., Washington, DC 20460.

2. In person or by courier. Deliver your comments to: OPPT Document Control Office (DCO) in East Tower Rm. G-099, Waterside Mall, 401 M St., SW., Washington, DC. The DCO is open from 8 a.m. to 4 p.m., Monday through Friday, excluding legal holidays. The telephone number for the DCO is: (202) 260-7093.

3. Electronically. Submit your comments electronically by e-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100002. Electronic comments on these documents may also be filed online at many Federal Depository Libraries.

D. How Should I Handle CBI Information That I Want to Submit to the Agency?

You may claim information that you submit in response to these documents as CBI by marking any part or all of that information as CBI. Information so marked will not be disclosed except in accordance with procedures set forth in 40 CFR part 2. A copy of the comment that does not contain CBI must be submitted for inclusion in the public record. Information not marked confidential will be included in the public docket by EPA without prior notice. If you have any questions about CBI or the procedures for claiming CBI, please consult with the technical person identified in the FOR FURTHER INFORMATION CONTACT section.

II. Background Information

A. What is the Purpose of This Notice?

The purpose of this notice is to make available for comment drafts of three documents. They are entitled:

(1) Emergency Planning and Community Right-to-Know Act—Section 313 Guidance for Reporting Toxic Chemicals: Mercury and Mercury Compounds Category;

(2) Emergency Planning and Community Right-to-Know Act—Section 313 Guidance for Reporting Toxic Chemicals: Polycyclic Aromatic Compounds Category;

(3) Emergency Planning and Community Right-to-Know Act—Section 313 Guidance for Reporting Toxic Chemicals: Pesticides and Other Persistent Bioaccumulative (PBT) Chemicals.

Some of the toxic chemicals discussed in these guidance documents were added to the list of EPCRA section 313 toxic chemicals as part of a final PBT chemical rule (64 FR 58666, October 29, 1999)(FRL-6389-11). The remainder of the chemicals in these three draft documents were previously on the list, and have lower reporting thresholds as a result of the final PBT chemical rule. EPA would like to receive comments on the technical contents of the guidance documents, particularly on the methods of estimating releases and other waste management quantities for these chemicals. Unit I.B. contains information on how to get copies of the draft guidance documents.

EPA is providing two methods through which interested parties may help complete the final version of the PBT technical guidance documents. As always, there will be a 30-day comment period for responding to the draft PBT documents. In addition, EPA will be meeting directly with stakeholders to improve these guidance documents. A workgroup has already been formed for this purpose. EPA welcomes additional stakeholders to this workgroup. If you are interested in participating, please contact the person identified in the FOR FURTHER INFORMATION CONTACT section by December 28, 2000.

List of Subjects in 40 CFR Part 372

Environmental protection, Chemicals, Community right-to-know, Hazardous substances, Intergovernmental relations, Reporting and recordkeeping requirements, Superfund.

Dated: November 21, 2000.
Elaine G. Stanley,
Director, Office of Information Analysis and Access, Office of Environmental Information.

[FR Doc. 00-30280 Filed 11-27-00; 8:45 am]

BILLING CODE 6560-50-F